DEPARTMENT OF LABOR

Employment and Training Administration

Comment Request for Information Collection for O*NET Data Collection Program, Extension of Currently Approved Collection With Minor Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, the Employment and Training Administration is soliciting comments concerning the proposed extension of the O*NET (Occupational Information Network) Data Collection Program (expires June 30, 2015). A copy of the proposed information collection request (ICR) can be obtained by contacting the office listed below in the addressee section of this notice or by accessing: http://www.onetcenter.org/ombclearance.html

DATES: Submit written comments to the office listed in the addresses section below on or before January 26, 2015.

ADDRESSES: Send written comments to Lauren Fairley Wright, Division of National Programs, Tools and Technical Assistance, Room C4526, Employment and Training Administration, U.S. Department of Labor, 200 Constitution Avenue NW., Washington, DC 20210. Telephone number: 202-693-3731 (this is not a toll-free number). Individuals with hearing or speech impairments may access the telephone number above via TTY by calling the toll-free Federal Information Relay Service at 1-877-889-5627 (TTY/TDD). Fax: 202-693-3015. Email: wright.lauren@dol.gov. To obtain a copy of the proposed information collection request (ICR), you may email the person listed above.

SUPPLEMENTARY INFORMATION:

I. Background

The O*NET Data Collection Program is an ongoing effort to collect and maintain current information on the detailed characteristics of occupations and skills for more than 900 occupations. The resulting database provides the most comprehensive standardized source of occupational and skills information in the nation. O*NET information is used by a wide range of audiences, including individuals making career decisions, public agencies and schools providing career exploration services or education and training programs, and businesses making staffing and training decisions. The O*NET system provides a common language, framework and database to meet the administrative needs of various federal programs, including workforce investment and training programs supported by funding from the Departments of Labor, Education, and Health and Human Services.

Section 308 of the Workforce Innovation and Opportunity Act requires the Secretary of Labor to oversee the “development, maintenance, and continuous improvement of a nationwide workforce and labor market information system” which shall include, among other components, “skill trends by occupation and industry.” The O*NET database provides:

Detailed information for more than 900 occupations.

Descriptive information using standardized descriptors for skills, abilities, interests, knowledge, work values, education, training, work context, and work activities.

Occupational coding based on the 2010 Standard Occupational Classification (SOC) system.

Several minor questionnaire changes for the Knowledge Questionnaire and the Background Questionnaire are pending in this submission. These changes are described in detail in Appendix A of the proposed Information Collection Request. These changes do not represent an increase in respondent burden.

The O*NET electronic database and related O*NET products and tools have been incorporated into numerous public and private sector products and resources, summarized at http://www.onetcenter.org/paw.html. These products in turn serve millions of customers.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with minor revisions.

Title: O*NET Data Collection Program.

OMB Number: 1205-0421.

Affected Public: private sector (for-profit businesses and not-for-profit organizations); state, local and tribal governments; federal government; individuals.

Estimated Total Annual Respondents: 28,866.

Estimated Total Annual Responses: 28,866.

Estimated Total Annual Burden Hours: 14,537.

Total Estimated Annual Other Costs Burden: 0.

We will summarize and/or include in the request for OMB approval of the ICR, the comments received in response to this comment request; they will also become a matter of public record.

Portia Wu,
Assistant Secretary for Employment and Training, Labor.

[FR Doc. 2014-27970 Filed 11-25-14; 8:45 am]

BILLING CODE 4510-FN-P